FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

American Lamprecht Transport, Inc. (NVO & OFF), 700 Rockaway Turnpike, Lawrence, NY 11559. Officers: Alain Tiercy, CFO/Secretary/Treasurer (Qualifying Individual), Hans-Peter Widmer, President.

Application Type: QI Change.

CACC Global Logistics, Inc. (NVO & OFF), 151 E. 220th Street, Carson, CA 90754. Officers: Annie Sun, President/CEO (Qualifying Individual), Chuck Sun, Vice President/Secretary.

Application Type: New NVO & OFF License.

E-Freight Solutions Inc. dba E-Lines Shipping and Logistics, and Ocean Champ Shipping Limited (NVO), 1000 Corporate Center Drive, Suite 320, Monterey Park, CA 91754. Officers: Joey Tam, President/CEO (Qualifying Individual), Yu C. Lee, Secretary/Treasurer.

Application Type: Name Change.

Ever-Swift Worldwide Inc. (NVO & OFF), Cargo Bldg. 151, Room 377, Jamaica, NY 11430. Officer: Chiang Yu-Chen, President (Qualifying Individual).

Application Type: Add OFF Service.

Limitless International, Inc. (NVO & OFF), 8750 Exchange Drive, #3, Orlando, FL 32809. Officer: Cheryl A. Stockstad, President (Qualifying Individual).

Application Type: Add NVO Service.

Meadwestvaco Corporation (NVO & OFF), 501 South 5th Street, Richmond, VA 23219. Officers: Christopher L. Osen, Vice President Supply Management (Qualifying Individual), Susan J. Kropf, Director.

Application Type: New NVO & OFF License.

Mutual Pacific Logistics, Inc. (NVO), 12801 South Figueroa Street, Los Angeles, CA 90061. Officer: Chee (CT) T. Tsui, President/Secretary/Treasurer (Qualifying Individual).

Application Type: New NVO License.

Unity Container Line, Inc. (NVO & OFF), 12552 SW. 143 Lane, Miami, FL 33186. Officer: Pedro Streb, President/Secretary/Treasurer (Qualifying Individual).

Application Type: New NVO & OFF License.

Dated: July 16, 2010.
Karen V. Gregory,
Secretary.

[FR Doc. 2010-17784 Filed 7-20-10; 8:45 am]

BILLING CODE 6730-01-P